DEPARTMENT OF ENERGY

Federal Energy Regulatory Commission

[Docket No. PL04-12-000]

Information Technology for Reliability and Markets; Notice of Technical Conference

July 6, 2004.

Take notice that the Federal Energy Regulatory Commission will host a technical conference on Wednesday, July 14, 2004 to discuss information technology for reliability and markets. The workshop will be held at the Commission's Washington, DC headquarters, 888 First St., NE., 20426. The workshop is scheduled to begin at 9 a.m. and end at approximately 4 p.m. (EST) in the Commission Meeting Room, Room 2-C.

The goal of the technical conference is to discuss Reliability Coordinators' and Control Areas' use of information technology for electric bulk system reliability and markets. The Commission seeks to reduce IT costs, enhance software quality and security, and promote competition in reliability and market software development, with the desired result of enhancing grid reliability, increasing software compatibility to reduce reliability and market seams, and ultimately lowering costs to customers. Topics to be discussed will include best practices for IT management, system architecture, specific IT projects underway within the Independent System Operation/Regional Transmission Operator Council's Information Technology Committee, and progress since FERC's last software conference. A draft agenda is provided as Attachment A.

The conference is open for the public to attend, and preregistration is not required. There will be no on-line registration established for this event; on-site attendees may simply attend on the day of the event.

Transcripts of the conference will be immediately available from Ace Reporting Company (202-347-3700 or 1-800-336-6646) for a fee. They will be available for the public on the Commission's eLibrary system seven calendar days after FERC receives the transcript. Additionally, Capitol Connection offers the opportunity for remote listening and viewing of the conference. It is available for a fee, live over the Internet, by phone or via satellite. Persons interested in receiving the broadcast, or who need information on making arrangements should contact David Reininger or Julia Morelli at the Capitol Connection (703-993-3100) as soon as possible or visit the Capitol Connection Web site at http://www.capitolconnection.gmu.edu and click on “FERC.”

For more information about the conference, please contact Alison Silverstein at 202-502-8000 or at alison.silverstein@ferc.gov.

Magalie R. Salas,
Secretary.

Attachment A—AGENDA

9 a.m. Introductions

—Alison Silverstein, FERC

9:10 a.m. IT Management Best Practices

—Dave Turner, Gestalt

9:35 a.m. Audience Comment

9:45 a.m. Overview of ISO/RTO Council Information Technology Committee

—Tom O'Brien, PJM

—Ken Fell, NYISO

10:05 a.m. Common Architecture

—Dr. Walter Fontner, NYISO

10:45 a.m. CIM-CME

—Terry Saxton, Extensible Solutions

11:30 a.m. Audience Comment

12 p.m. Lunch

1 p.m. Cyber-Security Requirements

—Kevin Perry, SPP or Jamey Sample, CAISO

1:30 p.m. Energy Management Systems

—MISO

—TVA

—PJM

2:10 p.m. Minimum Tools and Competencies for RCs and CAs

—Frank Macedo, FERC

2:40 p.m. Vendors

3:45 p.m. Audience Comment

4 p.m. Adjourn

FR Doc. E4-1659 Filed 7-26-04; 8:45 am]

BILLING CODE 6717-01-P